DEPARTMENT OF COMMERCE

National Oceanic and Atmospheric Administration

RIN 0648-XC726

Draft NOAA Procedures for Government to Government Consultation With Federally Recognized Indian Tribes

AGENCY: National Oceanic and Atmospheric Administration (NOAA), Commerce.

ACTION: Notice; request for comments.

SUMMARY: NOAA announces the availability of and request for comments on the Draft NOAA Procedures for Government-to-Government Consultation With Federally Recognized Indian Tribes. This Draft Handbook is intended to assist NOAA staff in conducting effective government-to-government consultations and fulfilling NOAA's obligations under Executive Order 13175 and Department Administrative Order (DAO) 218-8 on Consultation and Coordination with Indian Tribal Governments, and the Department of Commerce Tribal Consultation Policy adopted on May 21, 2013 and published in the Federal Register on June 4, 2013.

DATES: Written comments must be received on or before 11:59 p.m., EST, on August 23, 2013.

ADDRESSES: Electronic copies of the Draft Handbook may also be obtained on the internet at: http://www.legislative.noaa.gov/.

Written comments may be sent by any of the following methods:

• Email to the following address: noaa.tribalhandbook@noaa.gov;

• Mail or hand deliver to Heather Sagar, Department of Commerce (DOC), National Oceanic and Atmospheric Administration, 14th and Constitution Avenue NW., Room 51027, Washington, DC 20230. Mark the outside of the envelope “Draft NOAA Tribal Handbook”; or

• Fax at (202) 482-1844.

FOR FURTHER INFORMATION CONTACT: For additional information on the Draft Handbook, contact Heather Sagar by phone at (202) 482-1568 or by fax at (202) 482-1844.

SUPPLEMENTARY INFORMATION: On March 30, 1995, Secretary of Commerce Ron Brown signed DOC's first American Indian and Alaska Native Policy. That policy recognized the unique legal and political status of federally recognized American Indian and Alaska Native tribal governments, and the Federal Government's trust responsibility to American Indian tribes. The policy acknowledged the right of American Indian Tribes and Alaska Natives to self-government which flows from their inherent sovereignty and relationship with the Federal government. The goal of the policy was to ensure that tribal rights and concerns were addressed through consultation tribal governments prior to implementing any action when developing legislation, regulations, or policies that would affect tribal governments, their economic and social development activities, and their lands and resources.

On April 26, 2012, Secretary of Commerce John Bryson issued DAO 218-8 to implement the requirements of Executive Order 13175, Consultation and Coordination with Indian Tribal Governments (November 6, 2000), and the Presidential Memorandum on Tribal Consultation (2009). On May 21, 2013, Acting Secretary Rebecca Blank issued a new Tribal Policy that builds upon and expands the 1995 DOC Policy. The 2013 policy establishes the manner in which the Department works with tribes on a government-to-government basis when formulating or implementing policies that have tribal implications. This DOC policy outlines consultation procedures for all Department operating units when developing policies that have tribal implications.

This Draft Handbook is intended to assist NOAA, including its regional and field staff, in conducting effective government-to-government consultations and fulfilling NOAA's obligations under Executive Order 13175 and DAO 218-8 on Consultation and Coordination with Indian Tribal Governments, and the Department of Commerce Tribal Consultation Policy.

Authority: Executive Order 13175 of November 6, 2000 “Consultation and Coordination with Indian Tribal Governments” (65 FR 67249, November 9, 2000) and Presidential Memorandum of November 5, 2009 “Tribal Consultation” (74 FR 57881, November 9, 2009).

Dated: June 14, 2013.
Eric C. Schwaab,
Acting Assistant Secretary for Conservation and Management, National Oceanic and Atmospheric Administration.

[FR Doc. 2013-15011 Filed 6-21-13; 8:45 am]

BILLING CODE 3510-22-P